DEPARTMENT OF THE TREASURY

Submission for OMB Review; Comment Request

April 8, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 17, 2004, to be assured of consideration.

Bureau of the Public Debt (PD)

OMB Number: 1535-0094.

Form Number: None.

Type of Review: Extension.

Title: Regulations Governing Payments by the Authorized Clearing House Method on Account of United States Securities.

Description: The information is needed in order to make payments to investors in United States Securities by the Automated Clearing House (ACH) method.

Respondents: State, local or tribal government.

Estimated Number of Respondents: 1.

Estimated Burden Hours Per Respondent: 1 hour.

Frequency of Response: On occasion.

Estimated Total Reporting Burden Hours: 1 hour.

OMB Number: 1535-0095.

Form Number: None.

Type of Review: Extension.

Title: Regulations Governing United States Savings Bonds Series E/EE and H/HH.

Description: The regulations mandate the payment of H/HH interest by Direct Deposit (ACH method).

Respondents: Individuals or households, business or other for-profit, not-for-profit institutions, State, local or tribal government.

Estimated Number of Respondents: 1.

Estimated Burden Hours Per Respondent: 1 hour.

Frequency of Response: On occasion.

Estimated Total Reporting Burden Hours: 1 hour.

OMB Number: 1535-0121.

Form Number: PD F 5376 and PD F 5377.

Type of Review: Extension.

Title: PD F 5376: U.S. Treasury Securities State and Local Government Series Change Request; and PD F 5377: U.S. Treasury Securities State and Local Government Series Early Redemption Request.

Description: These forms are used for accounts maintenance changes and early redemption of State and local government series securities.

Respondents: State, local or tribal government.

Estimated Number of Respondents: 3,350.

Estimated Burden Hours Per Respondent:

PD F 5376: 30 min.

PD F 5377: 30 min.

Frequency of Response: On occasion.

Estimated Total Reporting Burden Hours: 1,675 hours.

OMB Number: 1535-0130.

Form Number: PD F 5387.

Type of Review: Extension.

Title: Request for Reissue of Series I United States Savings Bonds.

Description: This form is used to request reissue to add coowner or beneficiary, correct error, show change of name.

Respondents: Individuals or households.

Estimated Number of Respondents: 3,000.

Estimated Burden Hours Per Respondent: 30 minutes.

Frequency of Response: On occasion.

Estimated Total Reporting Burden Hours: 1,500 hours.

OMB Number: 1535-0131.

Form Number: PD F 5394.

Type of Review: Extension.

Title: Application for Disposition of Series I Savings Bonds after the Death of the Registered Owner(s).

Description: This form is used to distribute Series I savings bonds after the death of the registered owner(s).

Respondents: Individuals or households.

Estimated Number of Respondents: 1,000.

Estimated Burden Hours Per Respondent: 45 minutes.

Frequency of Response: On occasion.

Estimated Total Reporting Burden Hours: 750 hours.

OMB Number: 1535-0132.

Form Number: PD F 5386.

Type of Review: Extension.

Title: Request for Reissue of Series I Savings Bonds by the Representative of the Estate of an Incompetent or Minor.

Description: This form is used by court-appointed or other authorized individual to request reissue on behalf of an incompetent, minor, or other person under a legal disability.

Respondents: Individuals or households.

Estimated Number of Respondents: 1,000.

Estimated Burden Hours Per Respondent: 20 minutes.

Frequency of Response: On occasion.

Estimated Total Reporting Burden Hours: 330 hours.

OMB Number: 1535-0133.

Form Number: PD F 5385.

Type of Review: Extension.

Title: Request for Payment of Series I Savings Bonds By The representative of the Estate of an Incompetent or Minor.

Description: This form is used by court-appointed or other authorized individual to request payment on behalf of an incompetent, minor, or other person under a legal disability.

Respondents: Individuals or households.

Estimated Number of Respondents: 1,000.

Estimated Burden Hours Per Respondent: 20 minutes.

Frequency of Response: On occasion.

Estimated Total Reporting Burden Hours: 330 hours.

Clearance Officer: Vicki S. Thorpe, (304) 480-6553, Bureau of the Public Debt, 200 Third Street, Parkersburg, West VA 26106-1328.

OMB Reviewer: Joseph F. Lackey, Jr., (202) 395-7316, Office of Management and Budget, Room 10235, New Executive Office Building, Washington, DC 20503.

Lois K. Holland,
Treasury, PRA Clearance Officer.

[FR Doc. 04-8565 Filed 4-14-04; 8:45 am]

BILLING CODE 4810-39-P